DEPARTMENT OF ENERGY

Federal Energy Regulatory Commission

[Project No. 3428-187]

Brown Bear II Hydro, Inc.; Notice of Intent To File License Application, Filing of Pre-Application Document, Commencement of Pre-Filing Process, and Scoping; Waiving Parts of the Pre-Filing Process; Request for Comments on the Pad and Scoping Document, and Identification of Issues and Associated Study Requests

a. Type of Filing: Notice of Intent to File License Application for New License and Commencing Pre-filing Process.

b. Submitted By: Brown Bear II Hydro, Inc.

c. Name of Project: Worumbo Hydroelectric Project.

d. Location: On the Androscoggin River, in Androscoggin County, Maine.

e. Filed Pursuant to: 18 CFR part 5 of the Commission's Regulations.

f. Licensee Contact: Michael Scarzello, Regulatory Director, Eagle Creek Renewable Energy, LLC, 116 N State Street, P.O. Box 167, Neshkoro, WI 54960-0167.

g. FERC Contact: Ryan Hansen at (202) 502-8074 or email at ryan.hansen@ferc.gov.

h. Cooperating agencies: Federal, state, local, and tribal agencies with jurisdiction and/or special expertise with respect to environmental issues that wish to cooperate in the preparation of the environmental document should follow the instructions for filing such requests described in item m below. Cooperating agencies should note the Commission's policy that agencies that cooperate in the preparation of the environmental document cannot also intervene. See 94 FERC 61,076 (2001).

i. With this notice, we are initiating informal consultation with: (a) The U.S. Fish and Wildlife Service and/or NOAA Fisheries under section 7 of the Endangered Species Act and the joint agency regulations thereunder at 50 CFR, Part 402 and (b) the State Historic Preservation Officer, as required by section 106, National Historic Preservation Act, and the implementing regulations of the Advisory Council on Historic Preservation at 36 CFR 800.2.

j. With this notice, we are designating Brown Bear II Hydro, Inc. as the Commission's non-federal representatives for carrying out informal consultation, pursuant to section 7 of the Endangered Species Act and section 106 of the National Historic Preservation Act.

k. Brown Bear II Hydro, Inc. filed with the Commission a Pre-Application Document (PAD; including a proposed process plan and schedule), pursuant to 18 CFR 5.6 of the Commission's regulations.

l. In addition to publishing the full text of this document in the Federal Register, the Commission provides all interested persons an opportunity to view and/or print the contents via the internet through the Commission's Home Page (http://www.ferc.gov) using the eLibrary link. Enter the docket number excluding the last three digits in the docket number field to access the document. At this time, the Commission has suspended access to the Commission's Public Reference Room, due to the proclamation declaring a National Emergency concerning the Novel Coronavirus Disease (COVID-19), issued by the President on March 13, 2020. For assistance, contact FERC at FERCONlineSupport@ferc.gov or call toll-free, (866) 208-3676 or TYY, (202) 502-8659.

Register online at http://www.ferc.gov/docs-filing/esubscription.asp to be notified via email of new filing and issuances related to this or other pending projects. For assistance, contact FERC Online Support.

m. With this notice, we are soliciting comments on the PAD and Commission's staff Scoping Document 1 (SD1), as well as study requests. All comments on the PAD and SD1, and study requests should be sent to the address above in paragraph f. In addition, all comments on the PAD and SD1, study requests, requests for cooperating agency status, and all communications to and from Commission staff related to the merits of the potential application must be filed with the Commission.

The Commission strongly encourages electronic filing. Please file all documents using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

All filings with the Commission must bear the appropriate heading: Comments on Pre-Application Document, Study Requests, Comments on Scoping Document 1, Request for Cooperating Agency Status, or Communications to and from Commission Staff. Any individual or entity interested in submitting study requests, commenting on the PAD or SD1, and any agency requesting cooperating status must do so by March 23, 2021.

n. Scoping Process: The Commission's scoping process will help determine the required level of analysis and satisfy the NEPA scoping requirements, irrespective of whether the Commission prepares an environmental assessment or Environmental Impact Statement.

Due to restrictions on mass gatherings related to COVID-19, we are waiving section 5.8(b)(viii) of the Commission's regulations and do not intend to conduct a public scoping meeting and site visit in this case. Instead, we are soliciting written comments, recommendations, and information, on SD1. Any individual or entity interested in submitting scoping comments must do so by the date specified in item m. SD1, which outlines the subject areas to be addressed in the environmental document, was mailed to the individuals and entities on the Commission's official mailing list. Copies of SD1 may be viewed on the web at http://www.ferc.gov, using the “eLibrary” link. Follow the directions for accessing information in paragraph l. Based on all written comments, a Scoping Document 2 (SD2) may be issued. SD2 may include a revised process plan and schedule, as well as a list of issues, identified through the scoping process.

We may conduct a site visit, if needed, later in the process, such as in conjunction with the study plan meeting required by section 5.11(e) of the Commission's regulations which is required to occur by June 6, 2021. Further revisions to the schedule may be made as appropriate.

Dated: January 8, 2021.
Nathaniel J. Davis, Sr.,
Deputy Secretary.

[FR Doc. 2021-00681 Filed 1-13-21; 8:45 am]

BILLING CODE 6717-01-P